DEPARTMENT OF AGRICULTURE

Forest Service

Revised Land and Resource Management Plan for the Finger Lakes National Forest (Seneca and Schuyler Counties, New York)

AGENCY: Forest Service, USDA.

ACTION: Notice of Intent Supplement.

SUMMARY: On May 2, 2002 the USDA Forest Service published in the Federal Register, a Notice of Intent (NOI) to prepare an Environmental Impact Statement and to revise the Finger Lakes National Forest Land and Resource Management Plan (Forest Plan). A document titled, “Implementing the Finger Lakes Land and Resource Management Plan—A Fifteen Year Retrospective” (Retrospective) was referenced in the NOI. This document was not available at the beginning of the 60-day public comment period. To ensure that those who wants to reference the Retrospective when commenting on the NOI, the comment period on the NOI is being extended from 60 to 90 days. The comment period on the NOI will now end on July 30, 2002.

Supplement: The Finger Lakes National Forest is extending the comment period for the NOI from 60 to 90 days. Written comments on the NOI will now be accepted until July 30, 2002, All other information in the May 2, 2002 NOI remains the same.

Dated: June 12, 2002.
Paul Brewster,
Forest Supervisor.

[FR Doc. 02-15364 Filed 6-18-02; 8:45 am]

BILLING CODE 3410-11-M